DEPARTMENT OF LABOR

Employment and Training Administration

[TA-W-51,560]

Brazeway Inc., DeWitt, IA; Notice of Termination of Investigation

Pursuant to section 221 of the Trade Act of 1974, an investigation was initiated on April 22, 2003, in response to a worker petition filed on behalf of workers at Brazeway Inc., DeWitt, Iowa.

The petitioners have requested that the petition be withdrawn. Consequently, the investigation has been terminated.

Signed in Washington, DC, this 20th day of May, 2003.
Elliott S. Kushner,
Certifying Officer, Division of Trade Adjustment Assistance.

[FR Doc. 03-15481 Filed 6-18-03; 8:45 am]

BILLING CODE 4510-30-P